DEPARTMENT OF THE INTERIOR

Bureau of Reclamation

American Basin Fish Screen and Habitat Improvement Project, Sacramento River, California

AGENCY: Bureau of Reclamation, Interior.

ACTION: Notice of availability of the Draft Environmental Impact. Statement/Environmental Impact Report (EIS/EIR) and notice of public hearing.

SUMMARY: Pursuant to the National Environmental Policy Act of 1969 (as amended) and the California Environmental Quality Act, the Bureau of Reclamation and the California Department of Fish and Game as lead agencies have made available for public review and comment a joint Draft EIS/EIR for the American Basin Fish Screen and Habitat Improvement Project. The Draft EIS/EIR describes and presents the environmental effects of four alternatives, including no action, to modify the Natomas Mutual Water Company's water division and distribution system, thereby avoiding and minimizing potentially adverse affects to fish, particularly juvenile anadromous fish. A public hearing will be held to receive comments from individuals and organizations on the Draft EIS/EIR.

DATES: Written comments on the Draft EIS/EIR will be accepted on or before May 2, 2008.

A public hearing will be held from 6 p.m. to 8 p.m. on March 19, 2008 in Sacramento, CA. Oral or written comments will be received regarding the project's environmental effects.

ADDRESSES: The public hearing will be held at Reclamation District No. 1000 Board Room, 1633 Garden Highway, Sacramento, CA.

Send written comments on the Draft EIS/EIR to Mr. Brad Hubbard, Bureau of Reclamation, 2800 Cottage Way, Sacramento, CA 95825. Copies of the Draft EIS/EIR may be requested from Mr. Hubbard at the above address, or by calling 916-978-5204. See Supplementary Information section for locations where copies of the Draft EIS/EIR are available for public inspection.

FOR FURTHER INFORMATION CONTACT: Brad Hubbard, Natural Resources Specialist, Bureau of Reclamation, at 916-978-5204; or James Navicky, Environmental Scientist, California Department of Fish and Game, at 916-358-2926.

SUPPLEMENTARY INFORMATION: The Draft EIS/EIR will address impacts related to constructing and operating one or two positive-barrier fish screen diversion facilities; decommissioning and removing the Verona Diversion Dam and lift pumps; removing five pumping plants and one small private diversion; and modifying the distribution system. The Draft EIS/EIR documents the description and analysis of project construction and operation on fish resources, vegetation and wildlife, hydrology and water quality, recreation, visual and cultural resources, land use, geology and soils, traffic and circulation, air quality, noise, and hazards and hazardous materials.

Copies of the Draft EIS/EIR are available for public inspection and review at the following locations:

• Bureau of Reclamation, Denver Office Library, Building 67, Room 167, Denver Federal Center, 6th and Kipling, Denver, CO 80225; telephone: 303-445-2072.

• Bureau of Reclamation, Office of Public Affairs, 2800 Cottage Way, Sacramento, CA 95825-1898; telephone: 916-978-5100.

• Natural Resources Library, U.S. Department of the Interior, 1849 C Street, NW., Main Interior Building, Washington, DC 20240-0001.

• California Department of Fish and Game, 1701 Nimbus Road, Rancho Cordova, CA.

• Natomas Mutual Water Company, 2601 West Elkhorn Boulevard, Rio Linda, California 95673; telephone: 916-419-5936.

Libraries

• Sacramento Public Library, 828 I Street, Sacramento, CA 95814.

• South Natomas Library, 2901 Truxel Road, Sacramento, CA 95833.

• Sutter County Library, 750 Forbes Ave., Yuba City, CA 95991.

Before including your name, address, phone number, e-mail address, or other personal identifying information in your comment, you should be aware that your entire comment—including your personal identifying information—may be made publicly available at any time. While you can ask us in your comment to withhold your personal identifying information from public review, we cannot guarantee that we will be able to do so.

Hearing Process Information

The purpose of the public hearing is to provide the public with an opportunity to comment on environmental issues addressed in the Draft EIS/EIR. Written comments will also be accepted.

Persons needing reasonable accommodations in order to attend and participate in the public meeting should contact Mr. Brad Hubbard at 916-978-5204 as soon as possible. In order to allow sufficient time to process requests, please call Mr. Hubbard no later than one week before the meeting. Information regarding this project is available in alternative formats upon request.

Dated: February 13, 2008.
John F. Davis,
Deputy Regional Director, Mid-Pacific Region.

[FR Doc. 08-912 Filed 2-29-08; 8:45 am]

BILLING CODE 4310-MN-M